DEPARTMENT OF ENERGY

Federal Energy Regulatory Commission

Combined Notice of Filings #1

Take notice that the Commission received the following electric rate filings:

Docket Numbers: ER21-2652-005.

Applicants: Caddo Wind, LLC.

Description: Notice of Non-Material Change in Status of Caddo Wind, LLC.

Filed Date: 3/3/23.

Accession Number: 20230303-5257.

Comment Date: 5 p.m. ET 3/24/23.

Docket Numbers: ER22-1841-002.

Applicants: Golden Spread Electric Cooperative, Inc.

Description: Compliance filing: Final Order Compliance Filing to be effective 2/23/2023.

Filed Date: 3/6/23.

Accession Number: 20230306-5139.

Comment Date: 5 p.m. ET 3/27/23.

Docket Numbers: ER23-937-000.

Applicants: Chevelon Butte RE LLC.

Description: Supplement to January 26, 2023, Chevelon Butte RE LLC tariff filing.

Filed Date: 3/3/23.

Accession Number: 20230303-5256.

Comment Date: 5 p.m. ET 3/13/23.

Docket Numbers: ER23-1245-000.

Applicants: ENBALA Power Networks (USA), Inc.

Description: Tariff Amendment: MBR Cancellation Notice to be effective 3/31/2023.

Filed Date: 3/6/23.

Accession Number: 20230306-5000.

Comment Date: 5 p.m. ET 3/27/23.

Docket Numbers: ER23-1246-000.

Applicants: Generac Grid Services LLC.

Description: Baseline eTariff Filing: Application for Market Based Rate Authority to be effective 4/1/2023.

Filed Date: 3/6/23.

Accession Number: 20230306-5001.

Comment Date: 5 p.m. ET 3/27/23.

Docket Numbers: ER23-1247-000.

Applicants: PacifiCorp.

Description: Tariff Amendment: Termination of WAPA Buffalo Head Boundary Meters Agreement to be effective 5/25/2023.

Filed Date: 3/6/23.

Accession Number: 20230306-5040.

Comment Date: 5 p.m. ET 3/27/23.

Docket Numbers: ER23-1248-000.

Applicants: Tri-State Generation and Transmission Association, Inc.

Description: § 205(d) Rate Filing: Amendment to Service Agreement FERC No. 891 to be effective 2/6/2023.

Filed Date: 3/6/23.

Accession Number: 20230306-5048.

Comment Date: 5 p.m. ET 3/27/23.

Docket Numbers: ER23-1249-000.

Applicants: Puget Sound Energy, Inc.

Description: § 205(d) Rate Filing: Proposed Amendments to the PSE OATT to be effective 5/2/2023.

Filed Date: 3/6/23.

Accession Number: 20230306-5052.

Comment Date: 5 p.m. ET 3/27/23.

Docket Numbers: ER23-1250-000.

Applicants: Interstate Gas Supply, LLC.

Description: Baseline eTariff Filing: Notice of Succession—Company Name Change to be effective 3/6/2023.

Filed Date: 3/6/23.

Accession Number: 20230306-5069.

Comment Date: 5 p.m. ET 3/27/23.

Docket Numbers: ER23-1251-000.

Applicants: San Jacinto Grid, LLC.

Description: Baseline eTariff Filing: Application for Market-Based Rate Authority to be effective 5/6/2023.

Filed Date: 3/6/23.

Accession Number: 20230306-5118.

Comment Date: 5 p.m. ET 3/27/23.

Docket Numbers: ER23-1252-000.

Applicants: Ortega Grid, LLC.

Description: Baseline eTariff Filing: Application for Market-Based Rate Authority to be effective 5/6/2023.

Filed Date: 3/6/23.

Accession Number: 20230306-5123.

Comment Date: 5 p.m. ET 3/27/23.

Docket Numbers: ER23-1254-000.

Applicants: Arizona Public Service Company.

Description: Tariff Amendment: Rate Schedule No. 307-Notice of Cancellation to be effective 5/6/2023.

Filed Date: 3/6/23.

Accession Number: 20230306-5129.

Comment Date: 5 p.m. ET 3/27/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 6, 2023.
Debbie-Anne A. Reese,
Deputy Secretary.

[FR Doc. 2023-05010 Filed 3-10-23; 8:45 am]

BILLING CODE 6717-01-P